DEPARTMENT OF ENERGY

Federal Energy Regulatory Commission

[Docket No. RP02-377-000]

Northern Natural Gas Company; Notice of Proposed Changes in FERC Gas Tariff

July 10, 2002.

Take notice that on July 1, 2002, Northern Natural Gas Company (Northern) tendered for filing to become part of Northern's FERC Gas Tariff, Fifth Revised Volume No. 1, the following tariff sheets proposed to be effective on July 1, 2002:

Fourth Revised Sheet No. 219

Third Revised Sheet No. 222

Northern proposes to update its tariff to reflect the final transition in Northern's ownership by Dynegy, Inc. and to remove from the tariff certain organizational information that is already included on Northern's website. In that regard, Northern is revising Sheet No. 222 which references Northern's URL website address. Effective July 1, 2002, this address shall be changed to www.northernnaturalgas.com. In addition, Northern is revising Sheet No. 219 to remove certain language regarding the reporting structure Northern's merchant function under its Pipeline Sales Division. Pursuant to Standard L of Section 161.3 of the Commission's Regulations, such information is posted on Northern's Web site. Therefore, Northern is deleting this language from its tariff.

Northern further states that copies of the filing have been mailed to each of its customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-17812 Filed 7-15-02; 8:45 am]

BILLING CODE 6717-01-P